DEPARTMENT OF DEFENSE

Office of the Secretary

Meeting of the DoD Healthcare Quality Initiative Review Panel

AGENCY: Office of the Secretary, DoD.

ACTION: An executive/administration meeting for DoD Healthcare Quality Initiatives Review Panel has been scheduled for January 16, 2001.

SUMMARY: This notice set forth the meeting of the DoD Healthcare Quality Initiatives Review Panel. Notice of meeting is required under The Federal Advisory Committee Act.

DATES: January 16, 2001.

ADDRESSES: Sheraton Crystal City, 1800 Jefferson Davis Hwy, Arlington, VA 22202.

Time: January 16th 8:00 am to 5:30 pm.

FOR FURTHER INFORMATION CONTACT: Contact Gia Edmonds at (703) 933-8325.

Dated: January 3, 2001.
L.M. Bynum,
Alternate OSD Federal Register Liaison Officer, Department of Defense.

[FR Doc. 01-633 Filed 1-9-01; 8:45 am]

BILLING CODE 5001-10-M